ENVIRONMENTAL PROTECTION AGENCY

[ER-FRL-6609-1]

Environmental Impact Statements; Notice of Availability

Responsible Agency: Office of Federal Activities, General Information (202) 564-7167 or www.epa.gov/oeca/ofa.

Weekly Receipt of Environmental Impact Statements Filed July 3, 2000 Through July 7, 2000 Pursuant to 40 CFR 1506.9

EIS No. 000231, FINAL EIS, BLM, OR, John Day River Proposed Management Plan, Implementation, Two Rivers and John Day Resource Management Plan Amendments, John Day River Basin, Gilliam, Grant, Wheeler, Crook, Harney, Jefferson, Morrow, Sherman, Umatilla, Union and Wasco Counties, OR, Due: August 14, 2000, Contact: Mike William (541) 416-6862.

EIS No. 000232, FINAL EIS, IBR, CA, Contra Costa Water District Multi-Purpose Pipeline (MPP) Project, Construction and Operation of Raw Water Delivery System, Contra Costa Canal, COE Section 10 and 404 Permits, Contra Costa County, CA, Due: August 14, 2000, Contact: Bob Eckart (916) 978-5051.

EIS No. 000233, FINAL EIS, NPS, NJ, Great Egg Harbor National Scenic and Recreation River, Comprehensive Management Plan, Implementation, Atlantic Gloucester, Camden and Cape May Counties, NJ, Due: August 14, 2000, Contact: Mary Vavra (215) 597-9115.

EIS No. 000234, DRAFT EIS, APH, Importation of Unmanufactured Wood Articles from Mexico, With Consideration for Cumulative Impact of Methyl Bromide Use, Due: August 28, 2000, Contact: Gene W. Kersey (301) 734-7495.

EIS No. 000235, DRAFT EIS, FHW, TX, US Highway 183 Alternate Project, Improvements from RM-620 to Approximately Three Miles North of the City of Leander, Williamson County, TX, Due: August 28, 2000, Contact: Walter Waidelich (512) 916-5511.

EIS No. 000236, FINAL EIS, FAA, OH, Cleveland Hopkins International Airport, To Provide Capacity, Facilities, Highway Improvements and Enhancement to Safety, Funding, Cugahoga County, OH, Due: August 14, 2000, Contact: Ernest P. Gubry (734) 487-7280.

EIS No. 000237, DRAFT EIS, COE, NC, Dare County Beaches (Bodie Island Portion) Hurricane Wave Protection and Beach Erosion Control, The towns of Nags Head, Kill Devil Hills, Kitty Hawk, Dare County, NC , Due: August 28, 2000, Contact: Charles Wilson (910) 251-4746.

EIS No. 000238, FINAL EIS, FHW, UT, Legacy Parkway Project, Construction from I-215 at 2100 North in Salt Lake City to I-15 and US 89 near Farmington, Funding and COE Section 404 Permit, Salt Lake and Davis Counties, UT, Due: September 05, 2000, Contact: Gregory Punske (801) 963-0182.

EIS No. 000239, DRAFT EIS, IBR, AZ, NV, CA, Colorado River Interim Surplus Criteria, To Determine Water Surplus for use within the States Arizona, California and Nevada (from 2001 through 2015), Colorado River Basin, AZ, CA and NV, Due: September 08, 2000, Contact: Dave Curtis (702) 293-8132.

EIS No. 200240, DRAFT EIS, USN, VA, Marine Corps Heritage Center (MCHC) Complex, Construction and Operation at Marine Corps Base (MCB) Quantico, VA, Due: August 28, 2000, Contact: Hank Riek (202) 685-3064.

EIS No. 000241, FINAL EIS, AFS, ID, Silver Creek Integrated Resource Project, Implementation, Middle Fork Payette River, Boise National Forest, Boise and Valley Counties, ID, Due: August 14, 2000, Contact: Chris Worth (208) 365-7000.

EIS No. 000242, DRAFT EIS, FRC, IL, WI, Guardian Pipeline Project, Propose to Construct and Operate an Interstate Natural Gas Pipeline that would extend from Joliet (Will County), IL and Ixonia (Jefferson County), WI, Due: August 28, 2000, Contact: Paul McKee (202) 208-1088.

Dated: July 11, 2000.
Joseph C. Montgomery,
Director, NEPA Compliance Division, Office of Federal Activities.

[FR Doc. 00-17923 Filed 7-13-00; 8:45 am]

BILLING CODE 6560-60-U